DEPARTMENT OF ENERGY

Federal Energy Regulatory Commission

Combined Notice of Filings #1

Take notice that the Commission received the following exempt wholesale generator filings:

Docket Numbers: EG25-28-000.

Applicants: Morgnec Road Solar, LLC.

Description: Morgnec Road Solar, LLC submits Notice of Self-Certification of Exempt Wholesale Generator Status.

Filed Date: 11/8/24.

Accession Number: 20241108-5035.

Comment Date: 5 p.m. ET 11/29/24.

Docket Numbers: EG25-29-000.

Applicants: Spring Grove Solar II, LLC.

Description: Spring Grove Solar II, LLC submits Notice of Self-Certification of Exempt Wholesale Generator Status.

Filed Date: 11/8/24.

Accession Number: 20241108-5037.

Comment Date: 5 p.m. ET 11/29/24.

Docket Numbers: EG25-30-000.

Applicants: Cascade Energy Storage II LLC.

Description: Cascade Energy Storage II LLC submits Notice of Self-Certification of Exempt Wholesale Generator Status.

Filed Date: 11/8/24.

Accession Number: 20241108-5149.

Comment Date: 5 p.m. ET 11/29/24.

Take notice that the Commission received the following electric rate filings:

Docket Numbers: ER22-2293-001.

Applicants: Dominion Energy South Carolina, Inc.

Description: Compliance filing: Order No 881 Compliance filing to be effective 10/29/2019.

Filed Date: 11/8/24.

Accession Number: 20241108-5106.

Comment Date: 5 p.m. ET 11/29/24.

Docket Numbers: ER22-2317-001.

Applicants: Portland General Electric Company.

Description: Compliance filing: PGE OATT Att Q Order No. 881 Second Compliance Filing to be effective 7/12/2025.

Filed Date: 11/8/24.

Accession Number: 20241108-5001.

Comment Date: 5 p.m. ET 11/29/24.

Docket Numbers: ER22-2353-001.

Applicants: Florida Power & Light Company.

Description: Compliance filing: Order No. 881 Compliance Filing Regarding Timeline for AAR Calculation to be effective N/A.

Filed Date: 11/8/24.

Accession Number: 20241108-5133.

Comment Date: 5 p.m. ET 11/29/24.

Docket Numbers: ER24-3005-001.

Applicants: Eldorado Solar Project, LLC.

Description: Tariff Amendment: Supplement to Application for MBR Authority to be effective 10/28/2024.

Filed Date: 11/8/24.

Accession Number: 20241108-5150.

Comment Date: 5 p.m. ET 11/29/24.

Docket Numbers: ER25-392-000.

Applicants: Dominion Energy South Carolina, Inc.

Description: Compliance filing: Order No 881 Compliance filing to be effective 7/12/2025.

Filed Date: 11/8/24.

Accession Number: 20241108-5045.

Comment Date: 5 p.m. ET 11/29/24.

Docket Numbers: ER25-393-000.

Applicants: Midcontinent Independent System Operator, Inc.

Description: 205(d) Rate Filing: 2024-11-08_System Support Resource (SSR) Tariff Provision Clean-Up to be effective 2/1/2025.

Filed Date: 11/8/24.

Accession Number: 20241108-5051.

Comment Date: 5 p.m. ET 11/29/24.

Docket Numbers: ER25-394-000.

Applicants: New York Independent System Operator, Inc., NextEra Energy Transmission New York, Inc., Niagara Mohawk Power Corporation.

Description: 205(d) Rate Filing: New York Independent System Operator, Inc. submits tariff filing per 35.13(a)(2)(iii: Joint 205: Amnd EPCA among NYISO, NEETNY, Nat Grid, and Alle Catt Wind (SA2812) to be effective 10/25/2024.

Filed Date: 11/8/24.

Accession Number: 20241108-5065.

Comment Date: 5 p.m. ET 11/29/24.

Docket Numbers: ER25-395-000.

Applicants: Tri-State Generation and Transmission Association, Inc.

Description: 205(d) Rate Filing: Amendment to Service Agreement FERC No. 804 to be effective 10/10/2024.

Filed Date: 11/8/24.

Accession Number: 20241108-5101.

Comment Date: 5 p.m. ET 11/29/24.

Docket Numbers: ER25-396-000.

Applicants: Bluebird Solar LLC.

Description: Baseline eTariff Filing: Market-Based Rate Application to be effective 1/8/2025.

Filed Date: 11/8/24.

Accession Number: 20241108-5138.

Comment Date: 5 p.m. ET 11/29/24.

Docket Numbers: ER25-397-000.

Applicants: New York State Electric & Gas Corporation, York Independent System Operator, Inc.

Description: 205(d) Rate Filing: New York State Electric & Gas Corporation submits tariff filing per 35.13(a)(2)(iii: NYISO-NYSEG Joint 205: Amnd EPCA NYISO, NYSEG, Cassadaga, Arkwright, Ball Hill to be effective 10/25/2024.

Filed Date: 11/8/24.

Accession Number: 20241108-5145.

Comment Date: 5 p.m. ET 11/29/24.

Docket Numbers: ER25-398-000.

Applicants: Niagara Mohawk Power Corporation, New York Independent System Operator, Inc.

Description: 205(d) Rate Filing: Niagara Mohawk Power Corporation submits tariff filing per 35.13(a)(2)(iii: NMPC 205: proposed revisions to OATT Att. H regarding post-employment benefits to be effective 1/1/2025.

Filed Date: 11/8/24.

Accession Number: 20241108-5173.

Comment Date: 5 p.m. ET 11/29/24.

Take notice that the Commission received the following electric reliability filings:

Docket Numbers: RR24-4-001.

Applicants: North American Electric Reliability Corporation.

Description: North American Electric Reliability Corporation submits supplemental filing to the Five-Year Electric Reliability Organization Performance Assessment Assessment Report.

Filed Date: 11/8/24.

Accession Number: 20241108-5040.

Comment Date: 5 p.m. ET 11/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 8, 2024.
Debbie-Anne A. Reese,
Secretary.

[FR Doc. 2024-26676 Filed 11-14-24; 8:45 am]

BILLING CODE 6717-01-P